DEPARTMENT OF COMMERCE

International Trade Administration

[A-122-822]

Certain Corrosion-Resistant Carbon Steel Flat Products from Canada: Final Results of Antidumping Duty Administrative Review

AGENCY: Import Administration, International Trade Administration, U.S. Department of Commerce.

SUMMARY: On September 9, 2003, the Department of Commerce (the Department) published the preliminary results of its administrative review of the antidumping duty order on certain corrosion-resistant carbon steel flat products from Canada (68 FR 53105). The review covers shipments of this merchandise to the United States for the period August 1, 2002 through July 31, 2003, by Dofasco Inc. and Sorevco Inc., collectively known as Dofasco.

We gave interested parties an opportunity to comment on our preliminary results. Based on our analysis of comments, we have made changes to the preliminary results. For the final dumping margins see the “Final Results of Review” section below.

EFFECTIVE DATE: January 16, 2004.

FOR FURTHER INFORMATION CONTACT: Elfi Blum-Page or Christian Hughes, Office of Antidumping/Countervailing Duty Enforcement VII, Import Administration, International Trade Administration, U.S. Department of Commerce, 14th Street and Constitution Avenue, NW, Washington, DC 20230; telephone (202) 482-0197 or (202) 482-0190, respectively.

SUPPLEMENTARY INFORMATION:

Background

On September 9, 2003, the Department published the preliminary results of its administrative review of the antidumping duty order on certain corrosion-resistant carbon steel flat products from Canada. See Certain Corrosion-Resistant Carbon Steel Flat Products from Canada: Preliminary Results of Antidumping Duty Administrative Review, 68 FR 53105 (September 9, 2003) (Preliminary Results). In the Preliminary Results, we determined that U.S. sales had been made below normal value (NV). We gave interested parties an opportunity to comment on our preliminary results. On October 9, 2003, we received case briefs from United States Steel Corporation (Petitioner) and Dofasco. On October 17, 2003, Dofasco filed rebuttal comments. Neither party requested a hearing. The Department has now completed this review in accordance with section 751 of the Tariff Act of 1930, as amended (the Act).

Scope of the Antidumping Duty Order

The product covered by this antidumping duty order is certain corrosion-resistant steel, and includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this review are corrosion-resistant flat-rolled products of non- rectangular cross-section where such cross-section is achieved subsequent to the rolling process (i.e., products which have been “worked after rolling”)-- for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat- rolled products, which are three-layered corrosion-resistant carbon steel flat- rolled products less than 4.75 millimeters in composite thickness that consist of a carbon steel flat-rolled product clad on both sides with stainless steel in a 20%-60%-20% ratio.

Analysis of Comments Received

All issues raised in the case and rebuttal briefs by parties to this administrative review are addressed in the Issues and Decision Memorandum from Joseph A Spetrini, Deputy Assistant Secretary for Import Administration, Group III, to James J. Jochum, Assistant Secretary for Import Administration: Issues and Decision Memorandum for the Final Results of the Ninth Administrative Review of Certain Corrosion-Resistant Carbon Steel Flat Products from Canada for Dofasco, Inc. and Sorevco, Inc. (Collectively, Dofasco), dated January 7, 2004 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the Web at http://ia.ita.doc.gov. The paper copy and electronic version of the Decision Memo are identical in content.

Changes Since the Preliminary Results

Based on our analysis of comments received, we have made certain changes in the margin calculations for Dofasco. In response to comments from both Dofasco and Petitioner we have reclassified certain sales as CEP sales. See Memorandum to Barbara E. Tillman from Maureen Flannery: Classification of Dofasco's Sales as Either EP or CEP Sales. Any alleged programming or clerical errors are discussed in the relevant section of the Decision Memo, accessible in room B-099 and on the Web at http://ia.ita.doc.gov.

Final Results of Review

As a result of our review, we determine the antidumping margin for Dofasco to be as follows:

Manufacturer/­Exporter | Time Period | Margin
Dofasco | 08/03/01-07/31/02 | 1.36 percent

Duty Assessment and Cash Deposit Requirements

The Department shall determine, and Customs and Border Protection (CBP) shall assess, antidumping duties on all appropriate entries. The Department will issue appropriate appraisement instructions directly to CBP within 15 days of publication of the final results of review. Furthermore, the following deposit rates will be effective with respect to all shipments of certain corrosion-resistant carbon steel flat products from Canada entered, or withdrawn from warehouse, for consumption on or after the publication date of the final results, as provided for by section 751(a)(2)(C) of the Act: (1) for Dofasco, the cash deposit rate will be the rate indicated above; (2) for previously reviewed or investigated companies not listed above, the cash deposit rate will be the company-specific rate established for the most recent period; (3) if the exporter is not a firm covered in this review, a prior review, or the less-than-fair-value (LTFV) investigation, but the manufacturer is, the cash deposit rate will be the rate established for the most recent period for the manufacturer of the subject merchandise; and (4) for all other producers and/or exporters of this merchandise, the cash deposit rate shall be the “all other” rate established in the LTFV investigation, which is 18.71 percent. The deposit rate, when imposed, shall remain in effect until publication of the final results of the next administrative review.

Notification of Interested Parties

This notice also serves as a final reminder to importers of their responsibility under section 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

This administrative review and notice are in accordance with sections 751(a)(3)(A) and 777(i)(1) of the Act.

Dated: January 7, 2004.
James J. Jochum,
Assistant Secretary for Import Administration.

APPENDIX

List of Issues

1. Classification of Dofasco's Channel 2 and Channel 3 Sales as EP or CEP Sales

2. Matching by Level of Trade Before Matching by Month

3. Deduction of Indirect Selling Expenses Incurred in the Country of Manufacture (DINDIRSU) from Constructed Export Price (CEP)

4. Inclusion of Further Processing Costs and Freight to the Further Processor in CEP Selling Expenses (CEPSELL)

5. Exclusion of Certain Home Market Sales from Analysis by Not Extending the Window Period to Two Months after the Last Sale Date of the U.S. Sales

6. Reclassification of U.S. Spot Sales Made Through Channel 3 as Export Price (EP) Sales

7. Claimed Inaccuracies in Verification Report

8. Home Market Sales of Non-Prime Products

9. Correction to Draft Liquidation and Cash Deposit Instructions

10. Prepaid Brokerage and Handling (PBROKU) for Certain U.S. Sales

11. Correction of Certain Ministerial Errors

[FR Doc. 04-1026 Filed 1-15-04; 8:45 am]

BILLING CODE 3510-DS-S